DEPARTMENT OF ENERGY

Federal Energy Regulatory Commission

[Docket No. CP15-520-000]

Tennessee Gas Pipeline Company, L.L.C.; Notice of Revised Schedule for Environmental Review of the Triad Expansion Project

This notice identifies the Federal Energy Regulatory Commission staff's revised schedule for the completion of the Environmental Assessment (EA) for Tennessee Gas Pipeline Company, L.L.C.'s (Tennessee) Triad Expansion Project. The previous notice of schedule, issued on December 9, 2015, identified April 6, 2016 as the issuance date of the EA. On February 12, 2016, Commission staff received supplemental information regarding a route variation from Tennessee that requires a revised schedule for issuance of the EA.

Schedule for Environmental Review

Issuance of EA—June 15, 2016

90-Day Federal Authorization Decision Deadline—September 13, 2016

If a schedule change becomes necessary, additional notice will be provided so that the relevant agencies are kept informed of the Project's progress.

Additional Information

In order to receive notification of the issuance of the final EA and to keep track of all formal issuances and submittals in specific dockets, the Commission offers a free service called eSubscription. Go to www.ferc.gov/docs-filing/esubscription.asp.

Dated: April 5, 2016.
Nathaniel J. Davis, Sr.,
Deputy Secretary.

[FR Doc. 2016-08411 Filed 4-12-16; 8:45 am]

BILLING CODE 6717-01-P